DEPARTMENT OF TRANSPORTATION

Federal Highway Administration

Notice of Statute of Limitations on Claims; Final Federal Agency Actions on Proposed Highway in California

AGENCY: Federal Highway Administration (FHWA), DOT.

ACTION: Notice of Limitation on Claims for Judicial Review of Actions by the California Department of Transportation (Caltrans), pursuant to 23 U.S.C. 327, and United States Fish and Wildlife Service (USFWS), and United States Army Corp of Engineers (USACE).

SUMMARY: The FHWA, on behalf of Caltrans, is issuing this notice to announce actions taken by Caltrans, USFWS and USACE, that are final within the meaning of 23 U.S.C. 139(l)(1). The actions relate to a proposed highway project, United States (US) 101/State Route (SR) 84 interchange in the City of Redwood City, along 1.9 miles on US 101 and 0.4 mile on SR 84 in the County of San Mateo, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before June 12, 2017. If the Federal law that authorizes judicial review of a claim provides a time period of less than 150 days for filing such claim, then that shorter time period still applies.

FOR FURTHER INFORMATION CONTACT:

For Caltrans: Stefan Galvez, Chief of Environmental Analysis; Caltrans District #4; 111 Grand Avenue, Oakland CA 94611; 8 a.m.-5 p.m.; (510) 867-6786; Stefan.galvez@dot.ca.gov.

For USFWS: Ryan Olah, Coast Bay Division Chief; USFWS; Sacramento Fish and Wildlife Office; 2800 Cottage Way, Suite W-2605, Sacramento, CA 95825; 8 a.m.-5 p.m.; (916) 414-6623; ryan_olah@fws.gov.

For USACE: Calvin Fong, Regulatory Chief; USACE; 1455 Market Street, San Francisco, CA 94103; 8 a.m.-5 p.m.; (415) 977-8461; Calvin.c.fong@usace.army.mil.

SUPPLEMENTARY INFORMATION: Effective July 1, 2007, the Federal Highway Administration (FHWA) assigned, and the California Department of Transportation (Caltrans) assumed, environmental responsibilities for this project pursuant to 23 U.S.C. 327. Notice is hereby given that the Caltrans, USFWS, and USACE have taken final agency actions subject to 23 U.S.C. 139(l)(1) by issuing licenses, permits, and approvals for the following highway project in the State of California: The project proposes to widen and add lanes to SR 84 (hereafter simply Woodside Road), reconstruct all ramp connections to US 101, and construct direct-connect flyover ramps between US 101 and Veterans Boulevard. The project would also construct additional pedestrian and bicycle facilities throughout the project area and improve the intersections of Woodside Road with Veterans Boulevard, Broadway, and Bay Road to the south of US 101, and Seaport Boulevard/East Bayshore Road/Blomquist Road to the north of US 101. The project extends for 1.9 miles along US 101 and 0.4 mile along Woodside Road. The total project length is 2.3 miles. Federal Project Number SM-050027. The actions by the Federal agencies, and the laws under which such actions were taken, are described in the Final Environmental Assessment (EA) for the project, approved on December 16, 2016, in the Caltrans' Finding of No Significant Impact (FONSI) issued on December 16, 2016 and in other documents in the FHWA project records. The EA, FONSI, and other project records are available by contacting Caltrans at the addresses provided above. The Caltrans EA and FONSI can also be viewed and downloaded from the project Web site at http://www.dot.ca.gov/d4/envdocs.htm.

The USFWS, concurred that the proposed Project will not directly affect the following species or their habitat: Ridgeway's rail (Laterallus jamaicensis coturniculus), California least tern (Sternula antillarum browni), and salt marsh harvest mouse (Reithrodontomys raviventris).

The USACE, concurred that the proposed Project would not affect jurisdictional wetlands or waters of the U.S., as defined in Section 404 of the Clean Water Act. As a result, a Section 404 permit from USACE will not be required.

This notice applies to all Federal agency decisions as of the issuance date of this notice and all laws under which such actions were taken, including but not limited to:

1. General: National Environmental Policy Act (NEPA) (42 U.S.C. 4321-4351 et seq.)

2. Council on Environmental Quality Regulations

3. Map-21, the Moving Ahead for Progress in the 21st Century Act

4. Clean Air Act (42 U.S.C. 7401-7671(q))

5. Migratory Bird Treaty Act (16 U.S.C. 703-712)

6. Historic and Cultural Resources: Section 106 of the National Historic Preservation Act of 1966, as amended, (16 U.S.C. 470(f) et seq.)

7. Clean Water Act (Section 401)

8. Federal Endangered Species Act of 1973 (16 U.S.C. 1531-1543)

9. Fish and Wildlife Coordination Act of 1934, as amended

10. Noise Control Act of 1972

11. Safe Drinking Water Act of 1944, as amended

12. Executive Order 11990—Protection of Wetlands

13. Executive Order 11988 Floodplain Management

14. Executive Order 13112, Invasive Species

15. Executive Order 12898, Federal Actions to Address Environmental Justice and Low-Income Populations

16. Title VI of Civil Rights Act 1964, as amended

17. Clean Air Act of 1963, as amended

(Catalog of Federal Domestic Assistance Program Number 20.205, Highway Planning and Construction. The regulations implementing Executive Order 12372 regarding intergovernmental consultation on Federal programs and activities apply to this program.)

Authority: 23 U.S.C. 139(l)(1).

Issued on: January 3, 2017.
Matt Schmitz,
Director, Project Delivery, Federal Highway Administration, Sacramento, California.

[FR Doc. 2017-00662 Filed 1-12-17; 8:45 am]

BILLING CODE 4910-RY-P